DEPARTMENT OF ENERGY

Federal Energy Regulatory Commission

Combined Notice of Filings

Take notice that the Commission has received the following Natural Gas Pipeline Rate and Refund Report filings:

Filings Instituting Proceedings

Docket Numbers: RP16-751-000.

Applicants: WBI Energy Transmission, Inc.

Description: § 4(d) Rate Filing: 2016 Negotiated Rate Service Agreement—ONEOK to be effective 4/1/2016.

Filed Date: 3/29/16.

Accession Number: 20160329-5050.

Comments Due: 5 p.m. ET 4/11/16.

Docket Numbers: RP16-752-000.

Applicants: Natural Gas Pipeline Company of America.

Description: § 4(d) Rate Filing: Nicor Negotiated Rate to be effective 4/1/2016.

Filed Date: 3/29/16.

Accession Number: 20160329-5115.

Comments Due: 5 p.m. ET 4/11/16.

Docket Numbers: RP16-753-000.

Applicants: Natural Gas Pipeline Company of America.

Description: § 4(d) Rate Filing: Occidental Energy Marketing to be effective 4/1/2016.

Filed Date: 3/29/16.

Accession Number: 20160329-5123.

Comments Due: 5 p.m. ET 4/11/16.

Docket Numbers: RP16-754-000.

Applicants: Texas Eastern Transmission, LP.

Description: § 4(d) Rate Filing: Infinite Energy 911250 2016-2017 Negotiated Rate to be effective 4/1/2016.

Filed Date: 3/29/16.

Accession Number: 20160329-5141.

Comments Due: 5 p.m. ET 4/11/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-310-001.

Applicants: Kinder Morgan Louisiana Pipeline LLC.

Description: Compliance filing Compliance Filing to be effective 3/1/2016.

Filed Date: 3/29/16.

Accession Number: 20160329-5191.

Comments Due: 5 p.m. ET 4/11/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2016.
Nathaniel J. Davis, Sr.,
Deputy Secretary.

[FR Doc. 2016-08068 Filed 4-7-16; 8:45 am]

BILLING CODE 6717-01-P